DEPARTMENT OF HEALTH AND HUMAN SERVICES

Administration for Children and Families

Proposed Information Collection Activity; Comment Request

Proposed Projects

Title: Title IV-E Foster Care Eligibility Reviews, Child and Family Services Reviews

OMB No. 0970-0214

Description: ACF is requesting authority to renew an existing information collection that is expiring April 4, 2003. The initial information collection was contained in the final rule transmitting the Department's monitoring protocols for assessing title IV-E eligibility and payment accuracy, the child and family services reviews (CFSR), enforcement of the title IV-E anti-discrimination requirements, and certain provisions of the Adoption and Safe Families Act of 1997. Five information collections are associated with this information collection.

The collection of information for review of Federal payments to States for foster care maintenance payments (section 1356.71(i)) is authorized by title IV-E of the Social Security Act (the Act), section 474 [42 U.S.C. 674]. The collection of information for review of State child and family services programs (section 1355.33(b), 1355.33(c), and 1355.33(a)) to determine whether such programs are in substantial conformity with State plan requirements under parts B and E of the Act is authorized by section 1123(a) [42 U.S.C. 1320a-1a] of the Act.

Section 474(d) of the Act [42 U.S.C. 674] deploys enforcement provisions (sections 1355.38(b) and (c)) for the requirements at section 471(a)(18) [42 U.S.C. 671] which prohibit the delay or denial of foster and adoptive placements based on the race, color, or national origin of any of the individuals involved. The enforcement provisions include the execution and completion of corrective action plans when a State is in violation of section 471(a)(18).

The information collection is needed (1) To conduct Federal onsite eligibility reviews of title IV-E of the Act, “Federal Payments for foster care and adoption assistance”; and (2) to monitor State plan requirements under titles IV-B and IV-E of the Act, as required by Federal statute and (3) to enforce the title IV-E anti-discrimination requirements through State corrective action plans. The resultant information will allow us to determine if States are in compliance with State plan requirements and are achieving desired outcomes for children and families, as well as assure eligibility for Federally-assisted foster care expenditures. These reviews not only address compliance with eligibility requirements, but also assist States in enhancing their capacities to serve children and families. In doing the OMB information collection, we based the annual burden estimates for the child and family service review instruments on the pilot reviews. We are therefore soliciting comments on the annual burden estimates from more accurate estimates of the annual burden. We would like to know the number of person-hours for State and local child welfare agency employees who completed the statewide assessment instrument, completed the onsite review instrument and completed a program improvement plan.

Respondents: State Agencies.

Annual Burden Estimates
Instruments | Number of respondents | Number of responses per respondent | Average burden hours per response | Total burden hours
1355.33(b) State agency statewide assessment | 17 | 1 | 240 | 4,080
1355.33(c) On-site review | 17 | 1 | 900 | 15,300
1355.35(a) Program improvement plan | 17 | 1 | 80 | 1,360
1355.38(b) and (c) Corrective action plan | 5 | 1 | 80 | 400
1356.71(i) Program improvement plan | 17 | 1 | 63 | 1,071
Estimated Total Annual Burden Hours: |  |  |  | 22,211

In compliance with the requirements of Section 3506(c)(2)(A) of the Paperwork Reduction Act of 1995, the Administration for Children and Families is soliciting public comment on the specific aspects of the information collection described above. Copies of the proposed collection information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 4, 2002.
Robert Sargis,
Reports Clearance Officer.

[FR Doc. 02-31258 Filed 12-11-02; 8:45 am]

BILLING CODE 4184-01-M